DEPARTMENT OF HOUSING AND URBAN DEVELOPMENT

[Docket No. FR-5481-N-20]

Notice of Proposed Information Collection: Comment Request Congressional Earmark Grants

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

The Department's Congressional Grants Division administers congressionally mandated grants, known as earmarks. These projects have been identified in the annual appropriation of funds to the Department and in the accompanying conference reports or congressional record accompanying each appropriation. Earmarks generally fall into two categories: Economic Development Initiative-Special Project (EDI-SP) and Neighborhood Initiative (NI) grants.

DATES: Comments Due Date: January 23, 2012.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Relay Service (1-800-877-8339).

FOR FURTHER INFORMATION CONTACT: Frank McNally, Director, Congressional Grants Division, Department of Housing and Urban Development, 451 7th Street SW., Washington, DC 20410, telephone (202) 402-7100 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Congressional Earmark Grants.

OMB Control Number, if applicable: 2506-0179.

Description of the need for the information and proposed use: HUD's Congressional Grants Division and its Environmental Officers in the field use this information to make funds available to entities directed to receive funds appropriated by Congress. This information is used to collect, receive, review and monitor program activities through applications, semi-annual and close-out reports. The information that is collected is used to assess performance. Grantees are units of state and local government, nonprofits and Indian tribes. Respondents are initially identified by Congress and generally fall into two categories: Economic Development Initiative-Special Project (EDI-SP) grantees and Neighborhood Initiative (NI) grantees. The agency has used the application, semi-annual reports and close-out reports to track grantee performance in the implementation of approved projects.

Agency form numbers, if applicable: SF-424; SF-LLL; SF-1199A; HUD-27054; SF-425; HUD-27056.

Estimation of the total numbers of hours needed to prepare the information collection including number of respondents, frequency of response, and hours of response: The number of burden hours is 2,000. The number of respondents is 2,000, the number of responses is 4,000, the frequency of response is on occasion, and the burden hour per response is 4.

Status of the proposed information collection: This is an extension of a currently approved collection.

Authority: The Paperwork Reduction Act of 1995, 44 U.S.C., Chapter 35, as amended.

Dated: October 24, 2011.
Valerie G. Piper,
Deputy Assistant Secretary for Economic Development.

[FR Doc. 2011-30133 Filed 11-21-11; 8:45 am]

BILLING CODE 4210-67-P